FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995, the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 15, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov. To submit your PRA comments by email send them to: PRA@fcc.gov.

FOR FURTHER INFORMATION CONTACT: Judith B. Herman, FCC, Office of Managing Director, (202) 418-0214.

SUPPLEMENTARY INFORMATION: OMB Control Number: 3060-0076.

Title: Common Carrier Annual Employment Report.

Form Number: FCC Form 395.

Type of Review: Extension of a currently approved collection.

Respondents: Business or other for-profit entities.

Number of Respondents: 809 respondents; 809 responses.

Estimated Time per Response: 1 hour.

Frequency of Response: Annual reporting requirement and recordkeeping requirement.

Obligation to Respond: Mandatory. Statutory authority for this information collection is contained in 47 U.S.C. sections 154(i), 303, and 307-310 of the Communications Act of 1934, as amended.

Total Annual Burden: 809 hours.

Total Annual Cost: N/A.

Privacy Impact Assessment: N/A.

Nature and Extent of Confidentiality: The respondents are instructed on the appropriate procedures to follow to safeguard information deemed confidential under 47 CFR 0.457 of the Commission's rules details the type of records that are not routinely available for public inspection. Section 0.459 of the Commission's rules contains procedures for requesting that material and information submitted to the Commission be withheld from public inspection.

Needs and Uses: The Commission will be submitting this expiring information collection to the Office of Management and Budget (OMB) for approval of an extension request (no change in the public reporting and/or recordkeeping requirements).

The FCC Report 395, Common Carrier Annual Employment Report, is a data collection mechanism to implement the FCC's Equal Employment Opportunity (EEO) rules. All common carrier licensees or permittees with sixteen (16) or more full-time employees are required to file its Annual Employment Report. Each common carrier is also obligated to file copies of all exhibits, letters and other documents pertaining to all equal employment opportunity statements and annual reports on complaints regarding violations of equal employment provisions of Federal, State, Territorial, or local law filed with this Commission. The common carriers are required to retain these documents for a period of two years. The Annual Employment Report identifies each filer's staff by gender, race, color and/or national origin in each of ten major job categories. The report and all other EEOC documents are filed with the Commission to detail the applicant's compliance with the Commission's EEO rules. Those documents are available for public inspection at the FCC's Public Reference Room.

OMB Control Number: 3060-0166.

Title: Part 42, Sections 42.5, 42.6 and 42.7, Preservation of Records of Communications Common Carriers.

Form Number: N/A.

Type of Review: Extension of a currently approved collection.

Respondents: Business or other for-profit entities.

Number of Respondents: 56 respondents; 56 responses.

Estimated Time per Response: 2 hours.

Frequency of Response: On occasion reporting requirement, recordkeeping requirement and third party disclosure requirement.

Obligation to Respond: Mandatory. Statutory authority for this information collection is contained in 47 U.S.C. section 220 as amended by the Communications Act of 1934, as amended.

Total Annual Burden: 112 hours.

Total Annual Cost: N/A.

Privacy Impact Assessment: N/A.

Nature and Extent of Confidentiality: The respondents are instructed on the appropriate procedures to follow to safeguard information deemed confidential under 47 CFR 0.457 of the Commission's rules details the type of records that are not routinely available for public inspection. Section 0.459 of the Commission's rules contains procedures for requesting that material and information submitted to the Commission be withheld from public inspection.

Needs and Uses: The Commission will be submitting this expiring information collection to the Office of Management and Budget (OMB) for approval of an extension request (no change in the recordkeeping requirement).

Section 42.5 requires that records kept in a machine-readable medium be accompanied by a statement indicating the type of data included in the record and certifying that the information contained in it has been accurately duplicated.

Section 42.6 requires a carrier to retain telephone toll records for 18 months that are necessary to provide the following billing information about telephone toll calls: the name, address, and telephone number of the caller, telephone number called, date, time and length of call.

Section 42.7 allows a carrier to establish its own retention periods for all of its records, except records of telephone toll calls and records relevant to complaint proceedings.

Documentation of premature records destruction is necessary so that the Commission can be aware of the frequency and consequences of such destruction. If carriers were allowed to destroy records at will, the Commission would lose historical information, thus making it impossible to regulate the industry properly. A specific retention period for telephone toll records of 18 months is imposed to assist Department of Justice in law enforcement.

OMB Control Number: 3060-0807.

Title: Section 51.803, Procedures for Commission Notification of a State Commission's Failure to Act; Supplemental Procedures for Petitions Pursuant to Section 252(e)(5) of the Communications Act of 1934, as amended.

Form Number: N/A.

Type of Review: Extension of a currently approved collection.

Respondents: Business or other for-profit entities and state, local or tribal government.

Number of Respondents: 60 respondents; 60 responses.

Estimated Time per Response: 40 hours per requirement.

Frequency of Response: On occasion reporting requirement and third party disclosure requirement.

Obligation to Respond: Required to obtain or retain benefits. Statutory authority for this information collection is contained in 47 U.S.C. section 252(e)(5) as amended by the Communications Act of 1934, as amended.

Total Annual Burden: 1,600 hours.

Total Annual Cost: N/A.

Privacy Impact Assessment: N/A.

Nature and Extent of Confidentiality: The Commission is not requesting petitioners to submit confidential information to the Commission.

Needs and Uses: The Commission will be submitting this expiring information collection to the Office of Management and Budget (OMB) for approval of an extension request (no change in the reporting and/or third party disclosure requirements). There is no change in the Commission's burden estimates.

Any interested party seeking preemption of a state commission's jurisdiction based on the state commission's failure to act shall notify the Commission as follows: (1) File with the Secretary of the Commission a detailed petition, supported by an affidavit, that states with specificity the basis for any claim that it has failed to act; and (2) serve the state commission and other parties to the proceeding on the same day that the party serves the petition on the Commission. Within 15 days of filing the petition, the state commission and parties to the proceeding may file a response to the petition. In an OMB-approved Public Notice, DA 97-2540, released December 4, 1997, the Commission set forth procedures for filing petitions for preemption pursuant to section 252(e)(5). Section 252(e)(5) provides that “if a state commission fails to act to carry out its responsibility under this section in any proceeding or other matter under this section, then the Commission shall issue an order preempting the state commission's jurisdiction of the proceeding or matter within 90 days after being notified (or taking notice) of such failure, and shall assume the responsibility of the state commission under this section with respect to the proceeding or matter and act for the state commission.” All of the requirements are used to ensure that petitioners have complied with their obligations under the Communications Act of 1934, as amended.

OMB Control Number: 3060-0992.

Title: Section 54.507(d)(1)-(4), Request for Extension of the Implementation Deadline for Non-Recurring Services.

Form Number: N/A.

Type of Review: Extension of a currently approved collection.

Respondents: Business or other for-profit entities, not-for-profit entities and state, local or tribal government.

Number of Respondents: 1,675 respondents; 1,675 responses.

Estimated Time per Response: .75 hours (45 minutes).

Frequency of Response: On occasion reporting requirement, third party disclosure requirement and recordkeeping requirement.

Obligation to Respond: Required to obtain or retain benefits. Statutory authority for this information collection is contained in 47 U.S.C. sections 151, 154(i), and (j), 201-205, 214, 254, and 403 as amended by the Communications Act of 1934, as amended.

Total Annual Burden: 1,256 hours.

Total Annual Cost: N/A.

Privacy Impact Assessment: N/A.

Nature and Extent of Confidentiality: The Commission is not requesting that the respondents submit confidential information to the Commission. If the Commission requests applicants to submit information that the applicant believes is confidential, they may request confidential treatment of such information under 47 CFR 0.459 of the Commission's rules.

Needs and Uses: The Commission will be submitting this expiring information collection to the Office of Management and Budget (OMB) for approval of an extension request (no change in the reporting, third party disclosure requirement and/or recordkeeping requirement).

Pursuant to the E-rate program (formerly known as the schools and libraries universal support program), eligible schools, libraries, and their consortia may apply for discounts for telecommunications services, Internet access, and internal connections. In general, the applicant must use the funded services within the funding year, which runs from July 1 through June 30, except that the rules of the FCC, hereinafter the “Commission”, give applicants three additional months, until September 30 following the close of the funding year, to install one-time services known as non-recurring services. The Universal Service Administrative Company (USAC) may extend the September 30 deadline if the applicant falls within at least one of four designated circumstances. The applicant must, however, submit any required documentation to support an extension on or before the September 30 deadline. These extensions ensure that schools and libraries are not penalized when they are not responsible for missing the installation deadline. Additionally, implementation of this policy provides clarify to the USAC and applicants by establishing a certain deadline for installation. This rule also gives schools and libraries in the program the opportunity to schedule implementation of non-recurring services over the summer months.

Federal Communications Commission.
Marlene H. Dortch,
Secretary, Office of the Secretary, Office of Managing Director.

[FR Doc. 2013-11336 Filed 5-13-13; 8:45 am]

BILLING CODE 6712-01-P